DEPARTMENT OF TRANSPORTATION

Federal Aviation Administration

Air Traffic Procedures Advisory Committee

AGENCY: Federal Aviation Administration (FAA), DOT.

SUMMARY: The FAA is issuing this notice to advise the public that a meeting of the Federal Aviation Air Traffic Procedures Advisory Committee (ATPAC) will be held to review present air traffic control procedures and practices for standardization, clarification, and upgrading of terminology and procedures.

DATES: The meeting will be held from Tuesday, July 13, 2004, from 2 p.m. to 4:30 p.m. and Wednesday, July14, 2004, from 9 a.m. to 4:30 p.m.

ADDRESSES: The meeting will be held at the SeaTac Towers Office Complex, 17930 Pacific Highway S., SeaTac Tower II., Bldg#: 7-181, Seattle, WA 98188.

FOR FURTHER INFORMATION CONTACT: Ms. Sabra Kaulia, Executive Director, ATPAC, System Operations and Safety, 800 Independence Avenue, SW., Washington, DC 20591, telephone (202) 267-9205.

SUPPLEMENTARY INFORMATION: Pursuant to Section 10(a)(2) of the Federal Advisory Committee Act (Public Law 92-463; 5 U.S.C. App.2), notice is hereby given of a meeting of the ATPAC to be held Tuesday, July 13, 2004, from 2 p.m. to 4:30 p.m. and Wednesday, July 14, 2004, from 9 a.m. to 4:30 p.m. The agenda for this meeting will cover: a continuation of the Committee's review of present air traffic control procedures and practices for standardization, clarification, and upgrading of terminology and procedures. It will also include:

1. Approval of Minutes.

2. Submission and Discussion of Areas of Concern.

3. Discussion of Potential Safety Items.

4. Report from Executive Director.

5. Items of Interest.

6. Discussion and agreement of location and dates for subsequent meetings.

Attendance is open to the interested public but limited to space available. With the approval of the Chairperson, members of the public may present oral statements at the meeting. Persons desiring to attend and persons desiring to present oral statements should notify the person listed above not later than July 7, 2004. The next quarterly meeting of the FAA ATPAC is planned to be held from October 4-7, 2004, in Washington, DC.

Any member of the public may present a written statement to the Committee at any time at the address given above.

Issued in Washington, DC, on June 28, 2004.
Sabra Kaulia,
Executive Director, Air Traffic Procedures Advisory Committee.

[FR Doc. 04-15558 Filed 7-7-04; 8:45 am]

BILLING CODE 4910-13-M